ENVIRONMENTAL PROTECTION AGENCY

[OEI-100005; FRL-6722-6]

Notice of Stakeholder Meeting; Community Right-to-Know Toxic Chemical Release Reporting

AGENCY: Environmental Protection Agency (EPA).

ACTION: Notice of stakeholder meeting.

SUMMARY: EPA will hold a stakeholder meeting to solicit input on the types of information that EPA can provide to help users better understand Toxics Release Inventory (TRI) data reported under Section 313 of the Emergency Planning and Community Right-to-Know Act (EPCRA). This meeting will be open to the public.

DATES: The meeting will take place in Washington, DC on January 29, 2001, at 9:00 a.m. and adjourn by 5:00 p.m. Comments, identified by the docket control number OEI-100005, must be received by EPA on or before March 30, 2001.

ADDRESSES: The meeting will be held at the U.S. Environmental Protection Agency, Washington Information Center, Conference Room 3 North, 401 M St., SW., Washington, DC. Comments may be submitted by mail, electronically, or in person. Please follow the detailed instructions for each method as provided in Unit I. of the SUPPLEMENTARY INFORMATION section of this document.

FOR FURTHER INFORMATION CONTACT: Michelle Price, (202) 260-3372, e-mail: price.michelle@epa.gov, or to register to attend the meeting. Individuals planning to attend the meeting must register in order to ensure that there is adequate space, and to gain entry to the limited access EPA meeting rooms. For

more information on EPCRA section 313, contact the Emergency Planning and Community Right-to-Know Hotline, Environmental Protection Agency, Mail Code 5101, 1200 Pennsylvania Ave., NW., Washington, DC 20460, Toll free: 1-800-535-0202, in Virginia and Alaska: (703) 412-9877 or Toll free TDD: 1-800-553-7672. Information concerning this notice is also available on EPA's website at http://www.epa.gov/tri.

SUPPLEMENTARY INFORMATION:

I. General Information

A. Does this Notice Apply to Me?

You may be interested in this notice if you use data collected under EPCRA section 313 or if you manufacture, process, or otherwise use any of the EPCRA section 313 chemicals. Potentially affected categories and entities may include, but are not limited to:

Category | Examples of Potentially Interested Entities
Industry | SIC major group codes 10 (except 1011, 1081, and 1094), 12 (except 1241), or 20 through 39; industry codes 4911 (limited to facilities that combust coal and/or oil for the purpose of generating power for distribution in commerce); 4931 (limited to facilities that combust coal and/or oil for the purpose of generating power for distribution in commerce); or 4939 (limited to facilities that combust coal and/or oil for the purpose of generating power for distribution in commerce); or 4953 (limited to facilities regulated under the Resource Conservation and Recovery Act, subtitle C, 42 U.S.C. section 6921 et seq.), or 5169, or 5171, or 7389 (limited to facilities primarily engaged in solvent recovery services on a contract or fee basis)
Federal Government | Federal facilities

This table is not intended to be exhaustive, but rather provides a guide for readers regarding entities likely to be affected by this action. Other types of entities not listed in the table could also be affected. To determine whether your facility would be affected by this action, you should carefully examine the applicability criteria in part 372, subpart B of Title 40 of the Code of Federal Regulations. If you have questions regarding the applicability of this action to a particular entity, consult the person listed in the preceding FOR FURTHER INFORMATION CONTACT section.

B. How Can I Get Copies of Information Associated With This Meeting?

1. Electronically. You may obtain electronic copies of this document from the EPA internet Home Page at http:// www.epa.gov/. On the Home Page select “Laws and Regulations” and then look up the entry for this document under the “Federal Register— Environmental Documents.” You can also go directly to the “Federal Register” listings at http:/ /www.epa.gov/homepage/fedrgstr/.

2. In person. The Agency has established an official record for this notice under docket control number OEI-100005. The official record consists of documents associated with this public meeting such as meeting transcripts, agenda, background documents, comments submitted by participants or attendees and will include any information claimed as confidential business information (CBI). This official record includes the documents that are physically located in the docket, as well as the documents that are referenced in those documents. The public version of the official record does not include any information claimed as CBI. The public version of the official record is available for inspection in the TSCA Nonconfidential Information Center, North East Mall Rm. B-607, Waterside Mall, 401 M St., SW., Washington, DC. The Center is open from noon to 4 p.m., Monday through Friday, excluding legal holidays. The telephone number is 202 260 7099.

C. How and to Whom Do I Submit Comments?

You may submit comments through the mail, in person, or electronically. Be sure to identify the appropriate docket control number (i.e., “OEI-100005”) in your correspondence.

1. By mail. Submit written comments to: Document Control Office (7407), Office of Pollution Prevention and Toxics (OPPT), Environmental Protection Agency, 1200 Pennsylvania Ave., NW., Washington, DC 20460.

2. In person or by courier. Deliver your comments to: OPPT Document Control Office (DCO) in East Tower Rm. G-099, Waterside Mall, 401 M St., SW., Washington, DC. The DCO is open from 8 a.m. to 4 p.m., Monday through Friday, excluding legal holidays. The telephone number for the DCO is: (202) 260-7093.

3. Electronically. Submit your comments electronically by e-mail to: “oppt.ncic@epa.gov.” Please note that you should not submit any information electronically that you consider to be CBI. Electronic comments must be submitted as an ASCII file avoiding the use of special characters and any form of encryption. Comments and data will also be accepted on standard computer disks in WordPerfect 6.1/8.0 or ASCII file format. All comments and data in electronic form must be identified by the docket control number OEI-100005. Electronic comments on this proposal may also be filed online at many Federal Depository Libraries.

D. How Should I Handle CBI Information that I Want to Submit to the Agency?

You may claim information that you submit in response to this proposal as CBI by marking any part or all of that information as CBI. Information so marked will not be disclosed except in accordance with procedures set forth in 40 CFR part 2. A copy of the comment that does not contain CBI must be submitted for inclusion in the public record. Information not marked confidential will be included in the public docket by EPA without prior notice. If you have any questions about CBI or the procedures for claiming CBI, please consult with the technical person identified in the FOR FURTHER INFORMATION CONTACT section.

II. Background

The purpose of the meeting is to work with a small group of stakeholders to solicit input on the types of information that EPA can provide to help users better understand the Toxics Release Inventory data. One goal in particular is to identify ways that EPA can help users of the data understand the different factors to consider when using the TRI data. To achieve this goal, EPA is interested in identifying documents and/or tools that the Agency can develop to assist a variety of data users in understanding and using the TRI data. In the past there have been issues raised with regard to the definition of “release,” particularly with respect to Class I underground injection wells and Resource Conservation and Recovery Act (RCRA) Subtitle C landfills. Some stakeholders believe that the way EPA provides the data to the public leads to an erroneous perception that a reported EPCRA section 313 “release” necessarily results in an actual exposure of people or the environment to a toxic chemical. EPA is interested in obtaining ideas from stakeholders on documents and/or tools needed to assist data users in understanding the context of all types of toxic chemical releases reported under EPCRA section 313.

List of Subjects in 40 CFR Part 372

Environmental protection, Chemicals, Community right-to-know, Hazardous substances, Intergovernmental relations, Reporting and recordkeeping requirements, Superfund, Toxic chemicals.

Dated: December 20, 2000.
Elaine G. Stanley, Director
Office of Information Analysis and Access.

[FR Doc. 01-118 File 1-2-01; 8:45 am]

BILLING CODE 6560-50-F